ENVIRONMENTAL PROTECTION AGENCY

40 CFR Parts 262, 264 and 265

[EPA-HQ-RCRA-2015-0147; FRL 8562-01-OLEM]

Conforming Changes to Canada-Specific Hazardous Waste Import-Export Recovery and Disposal Operation Codes

AGENCY: Environmental Protection Agency (EPA).

ACTION: Final rule.

SUMMARY: The Environmental Protection Agency (EPA or the Agency) is making conforming changes to regulations related to twelve hazardous waste import-export recovery and disposal operations used in hazardous waste export and import notices submitted to EPA by U.S. exporters and importers, and in movement documents that accompany export and import shipments. The changes to regulations related to these twelve recovery and disposal operations are needed to reflect changes to regulations related to Canadian import-export recovery and disposal operations that Canada promulgated in the Canada Gazette Part II on March 17, 2021 and that become effective in Canada on October 31, 2021. Additionally, as the changes in today's rule are being made solely to conform to Canada's regulatory changes to Canada-specific operation codes and descriptions, this is a final rulemaking and no public comment is being solicited.

DATES: This rule is effective on October 31, 2021.

FOR FURTHER INFORMATION CONTACT: Laura Coughlan, Materials Recovery and Waste Management Division, Office of Resource Conservation and Recovery (5304P), Environmental Protection Agency, 1200 Pennsylvania Avenue NW, Washington, DC 20460; telephone number: (703) 308-0005; email address: coughlan.laura@epa.gov.

SUPPLEMENTARY INFORMATION:

I. Why is EPA issuing a final rule?

Section 553 of the Administrative Procedure Act (APA), 5 U.S.C. 553(b)(3)(B), provides that when an agency for good cause finds that notice and public procedures are impracticable, unnecessary, or contrary to the public interest, the agency may issue a final rule without providing notice and an opportunity for public comment.

The EPA is issuing this final rule solely because Environment and Climate Change Canada's revisions to its import-export recovery and disposal code numbers and descriptions become effective on October 31, 2021. The EPA must revise twelve of its import-export recovery and disposal code numbers and descriptions in 40 CFR 262.81 to reflect the revised Canadian regulatory definitions so that export and import notices and subsequent movement documents exchanged between Canada and the United States on or after October 31, 2021, do not contain conflicting information. Consequently, the EPA has determined that there is good cause for making the conforming changes in this final rule without prior proposal and opportunity for comment, because notice and public comment would have no impact on the need to parallel as closely as possible the Canadian regulatory revisions that triggered this final rule.

With respect to the effective date, EPA finds that it has good cause for the October 31, 2021 effective date under section 553(d) of the Administrative Procedure Act (APA), 5 U.S.C. 553(d), and section 3010(b) of RCRA, 42 U.S.C. 6930(b). EPA has good cause because this rule must be effective on October 31, 2021 to match the effective date for the Canadian regulatory changes. The purpose of section 553(d) of the APA is to “give affected parties a reasonable time to adjust their behavior before the final rule takes effect.” Omnipoint Corp. v. FCC, 78 F.3d 620, 630 (D.C. Cir. 1996); see also United States v. Gavrilovic, 551 F.2d 1099, 1104 (8th Cir. 1977) (quoting legislative history). Notwithstanding this purpose, section 553(d) authorizes an Agency to establish an effective date for a rule that is sooner than 30 days from its publication, “as otherwise provided by the agency for good cause found and published with the rule.” Similarly, whether the regulated community needs a period of time to come into compliance is relevant to the application of RCRA section 3010(b).

With respect to the effective date, U.S. exporters and U.S. importers will have sufficient time to comply with this rule. They must use EPA's Waste Import Export Tracking System (WIETS) to create and submit their notices to the Agency, and WIETS will reflect the changes in the recovery and disposal operation lists for exporters and importers to use in notices submitted to EPA on or after October 31, 2021, so the regulated community will not need to change how they use the system. As explained above, EPA has good cause for this effective date because this rule must be effective on October 31, 2021 in order to match the effective date for the Canadian regulatory changes. For these reasons, the EPA has concluded that the regulated community will have sufficient time to comply with this rule and that good cause exists for making the changes in this final rule effective October 31, 2021.

General Information

A. List of Acronyms Used in This Action

Acronym Meaning

CFR Code of Federal Regulations

EPA United States Environmental Protection Agency

FR Federal Register

HSWA Hazardous and Solid Waste Amendments

ICR Information Collection Request

NAICS North American Industrial Classification System

NTTAA National Technology Transfer and Advancement Act

OLEM Office of Land and Emergency Management

OMB Office of Management and Budget

RCRA Resource Conservation and Recovery Act

RFA Regulatory Flexibility Act

UMRA Unfunded Mandates Reform Act

WIETS Waste Import Export Tracking System

B. Does this action apply to me?

These revisions to the regulations related to twelve recovery and disposal codes used by exporters and importers in this action generally affect two groups: (1) All persons who export or import (or arrange for the export or import of) hazardous waste for recycling or disposal, including those hazardous wastes subject to the alternate management standards for (a) universal waste for recycling or disposal, (b) spent lead-acid batteries (SLABs) being shipped for reclamation, (c) industrial ethyl alcohol being shipped for reclamation, (d) hazardous waste samples of more than 25 kilograms being shipped for waste characterization or treatability studies, and (e) hazardous recyclable materials being shipped for precious metal recovery; and (2) all persons who export or arrange for the export of conditionally excluded cathode ray tubes being shipped for recycling or conditionally excluded hazardous secondary materials being shipped for recycling. Potentially affected entities may include, but are not limited to:

NAICS code | NAICS description
211 | Oil and Gas Extraction.
212 | Mining (except Oil and Gas).
213 | Support Activities for Mining.
311 | Food Manufacturing.
324 | Petroleum and Coal Products Manufacturing.
325 | Chemical Manufacturing.
326 | Plastics and Rubber Products Manufacturing.
327 | Nonmetallic Mineral Product Manufacturing.
331 | Primary Metal Manufacturing.
332 | Fabricated Metal Product Manufacturing.
333 | Machinery Manufacturing.
334 | Computer and Electronic Product Manufacturing.
335 | Electrical Equipment, Appliance, and Component Manufacturing.
336 | Transportation Equipment Manufacturing.
339 | Miscellaneous Manufacturing.
423 | Merchant Wholesalers, Durable Goods.
424 | Merchant Wholesalers, Nondurable Goods.
441 | Motor Vehicle and Parts Dealers.
562 | Waste Management and Remediation Services.

This table is not intended to be exhaustive, but rather provides a guide for readers regarding entities likely to be regulated by this action. This table lists the types of entities that EPA is now aware could potentially be regulated by this action. Other types of entities not listed in the table could also be regulated. If you have any questions regarding the applicability of this action to a particular entity, consult the person listed under FOR FURTHER INFORMATION CONTACT.

C. How can I get additional information, including copies of this document or other related information?

To obtain electronic copies of this document and other related information that are available electronically, please visit www.epa.gov/hwgenerators.

II. Background

A. What action is the Agency taking?

This action makes conforming changes to regulations related to twelve (12) hazardous waste import-export recovery and disposal operations used in hazardous waste export and import notices submitted to EPA by U.S. exporters and importers, and in movement documents that must accompany such shipments. Changes in these regulations related to twelve recovery and disposal operations are needed to reflect changes to regulations related to Canadian import-export recovery and disposal operations that Canada promulgated in the Canada Gazette Part II on March 17, 2021 (“Cross-border Movement of Hazardous Waste and Hazardous Recyclable Material Regulations,” Canada Gazette Part II, volume 155, number 6, pp. 324-543) and that will become effective on October 31, 2021. The changes to the regulations related to the twelve import-export disposal and recovery operations will ensure that the disposal and recovery operation codes listed in U.S export notices proposing exports to Canada facilities and subsequent movement documents will continue to reflect the accurate Canadian code numbers and description of the operations, enabling matching to the information listed in the Canadian import notices and movement documents.

The current and revised regulatory text for the twelve affected disposal and recovery operations are as follows:

Current regulatory definition | Revised regulatory definition
(13) D13 Blending or mixing, prior to any of operations D1 through D12 | (13) D13 Interim blending or mixing, before an operation that bears any of the disposal operations D1 to D12.
(14) D14 Repackaging, prior to any of operations D1 through D13 | (14) D14 Interim repackaging, before an operation that bears any of the disposal operations D1 to D12.
(15) D15 (or DC17 for transboundary movements with Canada only) Interim Storage, prior to any of operations D1 through D12 | (15) D15 Interim storage, before an operation that bears any of the disposal operations D1 to D12.
(16) DC15 Release, including the venting of compressed or liquified gases, or treatment, other than by any of operations D1 to D12 (for transboundary movements with Canada only) | (16) DC1 Release, including the venting of compressed or liquified gases, or treatment, other than by any of disposal operation codes D1 to D12. (for transboundary movements with Canada only).
(17) DC16 Testing of a new technology to dispose of a hazardous waste (for transboundary movements with Canada only) | (17) DC2 Testing of a new technology to dispose of a hazardous waste (for transboundary movements with Canada only).
(11) R11 Uses of residual materials obtained from any of the operations numbered R1 through R10 or RC14 (for transboundary shipments with Canada only) | (11) R11 Use of residual materials obtained from any of the recovery operation codes numbered R1 through R10 or RC1.
(12) R12 Exchange of wastes for submission to any of the operations numbered R1 through R11 or RC14 (for transboundary shipments with Canada only) | (12) R12 Interim exchange of wastes before recycling using any of the recovery operation codes numbered R1 through R11 or RC1.
(13) R13 Accumulation of material intended for any operation numbered R1 through R12 or RC14 (for transboundary shipments with Canada only) | (13) R13 Interim accumulation of wastes before recycling using any of the recovery operation codes numbered R1 through R11 or RC1.
(14) RC14 Recovery or regeneration of a substance or use or re-use of a recyclable material, other than by any of operations R1 to R10 (for transboundary shipments with Canada only) | (14) RC1 Recovery or regeneration of a substance or use or re-use of a recyclable material, other than by any of operations R1 to R10 (for transboundary shipments with Canada only).
(15) RC15 Testing of a new technology to recycle a hazardous recyclable material (for transboundary shipments with Canada only) | (15) RC2 Testing of a new technology to recycle a hazardous recyclable material (for transboundary shipments with Canada only).
(16) RC16 Interim storage prior to any of operations R1 to R11 or RC14 (for transboundary shipments with Canada only) | (16) RC3 Interim storage prior to any of operations R1 to R11 or RC1 (for transboundary shipments with Canada only).

These revised codes and descriptions will be automatically available for exporters and importers to use in EPA's WIETS on October 31, 2021 when they create export or import notices to submit to EPA. Exporters and importers shipping hazardous waste between the U.S. and Canada generally comply with the movement document requirements in 40 CFR 262.83(d) and 40 CFR 262.84(d) respectively, by relying on the use of a Canadian movement document that will be required to reflect the modified recovery and disposal operation code numbers for consents issued by either the EPA or Environment and Climate Change Canada based on notices submitted on or after October 31, 2021 due to the Canadian regulatory revisions.

B. What is the Agency's authority for taking this action?

The EPA is issuing this document under its authority in sections 1002, 2002(a), 3001-3004, and 3017 of the Solid Waste Disposal Act, as amended by the Resource Conservation and Recovery Act (RCRA), and as amended by the Hazardous and Solid Waste Amendments, 42 U.S.C. 6901 et seq., 6912, 6921-6924, and 6938.

III. State Authorization

A. Applicability of Rules in Authorized States

Under section 3006 of RCRA, EPA may authorize qualified States to administer their own hazardous waste programs in lieu of the federal program within the State. Following authorization, EPA retains enforcement authority under sections 3008, 3013, and 7003 of RCRA, although authorized States have primary enforcement responsibility. The standards and requirements for State authorization are found at 40 CFR part 271.

Prior to enactment of the Hazardous and Solid Waste Amendments of 1984 (HSWA), a State with final RCRA authorization administered its hazardous waste program entirely in lieu of EPA administering the federal program in that State. The federal requirements no longer applied in the authorized State, and EPA could not issue permits for any facilities in that State, since only the State was authorized to issue RCRA permits. When new, more stringent federal requirements were promulgated, the State was obligated to enact equivalent authorities within specified time frames. However, the new federal requirements did not take effect in an authorized State until the State adopted the federal requirements as State law.

In contrast, under RCRA section 3006(g) (42 U.S.C. 6926(g)), which was added by HSWA, new requirements and prohibitions imposed under HSWA authority take effect in authorized States at the same time that they take effect in unauthorized States. The EPA is directed by the statute to implement these requirements and prohibitions in authorized States, including the issuance of permits, until the State is granted authorization to do so. While States must still adopt HSWA related provisions as State law to retain final authorization, EPA implements the HSWA provisions in authorized States until the States do so.

Authorized States are required to modify their programs only when EPA enacts federal requirements that are more stringent or broader in scope than existing federal requirements. RCRA section 3009 allows the States to impose standards more stringent than those in the federal program (see also 40 CFR 271.1). Therefore, authorized States may, but are not required to, adopt federal regulations, both HSWA and non HSWA, that are considered less stringent than previous federal regulations.

B. Effect on State Authorization

Because of the federal government's special role in matters of foreign policy, EPA does not authorize States to administer Federal import/export functions in any section of the RCRA hazardous waste regulations. This approach of having Federal, rather than State, administering of the import/export functions promotes national coordination, uniformity and the expeditious transmission of information between the United States and foreign countries.

Although States do not receive authorization to administer the Federal government's import/export functions in 40 CFR part 262 subpart H, or the import/export relation functions in any other section of the RCRA hazardous waste regulations, State programs are still required to adopt the provisions in this rule to maintain their equivalency with the Federal program (see 40 CFR 271.10(e)). The States that have already adopted 40 CFR part 262 subpart H, 40 CFR part 264, and 40 CFR part 265 must adopt the revisions to those provisions in this final rule. When a State adopts the import/export provisions in this final rule, they must not replace Federal or international references or terms with State references or terms.

The provisions of this rule will take effect in all States on the effective date of the rule, since these import and export requirements will be administered by the Federal government as a foreign policy matter and will not be administered by States.

IV. Do any of the statutory and Executive Order reviews apply to this action?

This final rule changes the regulations related to code numbers and descriptions for twelve hazardous waste import-export recovery and disposal operations used in hazardous waste export and import notices and subsequent movement documents to reflect changes to regulations related to Canadian import-export recovery and disposal operations that Canada promulgated in the Canada Gazette Part II on March 17, 2021 and that become effective on October 31, 2021. This action is not a “significant regulatory action” and is therefore not subject to OMB review under Executive Order 12866, entitled “Regulatory Planning and Review” (58 FR 51735, October 4, 1993). Additionally, this action is not a significant regulatory action and does not impose any new information collection burden under the Paperwork Reduction Act. The changes made to the regulations because of this action merely revise certain recovery and disposal operations that are listed in export and import notices and related movement documents. They impose no new reporting requirements on regulated parties. Because this action is not subject to notice and comment requirements under the Administrative Procedure Act or any other statute, it is not subject to the Regulatory Flexibility Act (5 U.S.C. 601 et seq.) or Sections 202 and 205 of the Unfunded Mandates Reform Act of 1999 (UMRA) (Pub. L. 104-4). In addition, this action does not significantly or uniquely affect small governments. This action does not create new binding legal requirements that substantially and directly affect Tribes under Executive Order 13175 (65 FR 67249, November 9, 2000). This action does not have significant Federalism implications under Executive Order 13132 (64 FR 43255, August 10, 1999). Because this final rule has been exempted from review under Executive Order 12866, this final rule is not subject to Executive Order 13211, entitled “Actions Concerning Regulations That Significantly Affect Energy Supply, Distribution, or Use” (66 FR 28355, May 22, 2001) or Executive Order 13045, entitled “Protection of Children from Environmental Health Risks and Safety Risks” (62 FR 19885, April 23, 1997). This final rule does not contain any new information collections subject to OMB approval under the Paperwork Reduction Act (PRA), 44 U.S.C. 3501 et seq., nor does it require any special considerations under Executive Order 12898, entitled “Federal Actions to Address Environmental Justice in Minority Populations and Low-Income Populations” (59 FR 7629, February 16, 1994). This action does not involve technical standards; thus, the requirements of Section 12(d) of the National Technology Transfer and Advancement Act of 1995 (15 U.S.C. 272 note) do not apply.

The Congressional Review Act (CRA), 5 U.S.C. 801 et seq., generally provides that before certain actions may take effect, the agency promulgating the action must submit a report, which includes a copy of the action, to each House of the Congress and to the Comptroller General of the United States. This final action is subject to the CRA, and the EPA will submit a rule report to each House of Congress and to the Comptroller General of the United States. This action is not a “major rule” as defined by U.S.C. 804(2).

List of Subjects

40 CFR Part 262

Environmental protection, Exports, Hazardous materials transportation, Hazardous waste, Imports, Labeling, Packaging and containers, Reporting and recordkeeping requirements.

40 CFR Part 264

Environmental protection, Hazardous waste, Imports, Packaging and containers, Reporting and recordkeeping requirements.

40 CFR Part 265

Environmental protection, Hazardous waste, Imports, Packaging and containers, Reporting and recordkeeping requirements.

Dated: September 28, 2021.
Barry N. Breen,
Acting Assistant Administrator, Office of Land and Emergency Management.

For the reasons stated in the preamble, EPA amends title 40, chapter 1 of the Code of Federal Regulations as follows:

PART 262—STANDARDS APPLICABLE TO GENERATORS OF HAZARDOUS WASTE

1. The authority citation for part 262 continues to read as follows:

Authority: 42 U.S.C 6906, 6912, 6922-6925, 6937, 6938 and 6939g.

2. Amend § 262.81 by:

a. In the definition of “Disposal operations” revising paragraphs (13) through (17); and

b. In the definition of“Recovery operations”, revising paragraphs (11) through (16).

The revisions read as follows:

§ 262.81 Definitions.

* * * * *

Disposal operations * * *

* * * * *

(13) D13 Interim blending or mixing, before an operation that bears any of the disposal operations D1 to D12.

(14) D14 Interim repackaging, before an operation that bears any of the disposal operations D1 to D12.

(15) D15 Interim storage, before an operation that bears any of the disposal operations D1 to D12.

(16) DC1 Release, including the venting of compressed or liquified gases, or treatment, other than by any of disposal operation codes D1 to D12. (for transboundary movements with Canada only).

(17) DC2 Testing of a new technology to dispose of a hazardous waste (for transboundary movements with Canada only).

* * * * *

Recovery operations * * *

* * * * *

(11) R11 Use of residual materials obtained from any of the recovery operation codes numbered R1 through R10 or RC1.

(12) R12 Interim exchange of wastes before recycling using any of the recovery operation codes numbered R1 through R11 or RC1.

(13) R13 Interim accumulation of wastes before recycling using any of the recovery operation codes numbered R1 through R11 or RC1.

(14) RC1 Recovery or regeneration of a substance or use or re-use of a recyclable material, other than by any of operations R1 to R10 (for transboundary shipments with Canada only).

(15) RC2 Testing of a new technology to recycle a hazardous recyclable material (for transboundary shipments with Canada only).

(16) RC3 Interim storage prior to any of operations R1 to R11 or RC1 (for transboundary shipments with Canada only).

* * * * *

3. Amend § 262.83 by revising paragraphs (b)(3) and (f)(6) to read as follows:

§ 262.83 Exports of hazardous waste.

* * * * *

(b) * * *

(3) Notifications listing interim recycling operations or interim disposal operations. If the foreign receiving facility listed in paragraph (b)(1)(ii) of this section will engage in any of the interim recovery operations R12 or R13 or interim disposal operations D13 through D15, or in the case of transboundary movements with Canada, any of the interim recovery operations R12, R13, or RC3, or interim disposal operations D13 to D14, or D15, the notification submitted according to paragraph (b)(1) of this section must also include the final foreign recovery or disposal facility name, address, telephone, fax numbers, email address, technologies employed, and which of the applicable recovery or disposal operations R1 through R11 and D1 through D12, or in the case of transboundary movements with Canada, which of the applicable recovery or disposal operations R1 through R11, RC1 to RC2, D1 through D12, and DC1 to DC2 will be employed at the final foreign recovery or disposal facility. The recovery and disposal operations in this paragraph are defined in § 262.81.

* * * * *

(f) * * *

(6) Contracts must specify that the foreign importer or the foreign receiving facility that performed interim recycling operations R12, R13, or RC3, or interim disposal operations D13 through D15, (recovery and disposal operations defined in 40 CFR 262.81) as appropriate, will:

(i) Provide the notification required in paragraph (f)(3)(ii) of this section prior to any re-export of the hazardous wastes to a final foreign recovery or disposal facility in a third country; and

(ii) Promptly send copies of the confirmation of recovery or disposal that it receives from the final foreign recovery or disposal facility within one year of shipment delivery to the final foreign recovery or disposal facility that performed one of recovery operations R1 through R11, or RC1, or one of disposal operations D1 through D12, DC1 or DC2 to the competent authority of the country of import. For contracts that will be in effect on or after the electronic import-export reporting compliance date, the contracts must additionally specify that the foreign facility send copies to EPA at the same time using the allowable method listed in paragraph (b)(1) of this section on or after that date.

* * * * *

4. Amend § 262.84 by revising paragraphs (b)(2), (f)(5), (g)(2), (h)(2)(iii) to read as follows:

§ 262.84 Imports of hazardous waste.

* * * * *

(b) * * *

(2) Notifications listing interim recycling operations or interim disposal operations. If the receiving facility listed in paragraph (b)(1)(ii) of this section will engage in any of the interim recovery operations R12, R13, or RC3 or interim disposal operations D13 through D15, the notification submitted according to paragraph (b)(1) of this section must also include the final recovery or disposal facility name, address, telephone, fax numbers, email address, technologies employed, and which of the applicable recovery or disposal operations R1 through R11, RC1, and D1 through D12, will be employed at the final recovery or disposal facility. The recovery and disposal operations in this paragraph are defined in § 262.81.

* * * * *

(f) * * *

(5) Contracts must specify that the importer or the receiving facility that performed interim recycling operations R12, R13, or RC3, or interim disposal operations D13 through D15, as appropriate, will provide the notification required in § 262.83(b)(7) prior to the re-export of hazardous wastes. The recovery and disposal operations in this paragraph are defined in § 262.81.

* * * * *

(g) * * *

(2) If the receiving facility performed any of recovery operations R12, R13, or RC3, or disposal operations D13 through D15, the receiving facility shall promptly send copies of the confirmation of recovery or disposal that it receives from the final recovery or disposal facility within one year of shipment delivery to the final recovery or disposal facility that performed one of recovery operations R1 through R11, or RC1 to RC2, or one of disposal operations D1 through D12, or DC1 to DC2, to the competent authority of the country of export, and for confirmations received on or after the electronic import-export reporting compliance date, to EPA electronically using EPA's Waste Import Export Tracking System (WIETS), or its successor system. The recovery and disposal operations in this paragraph are defined in § 262.81.

* * * * *

(h) * * *

(2) * * *

(iii) For the receiving facility that performed any of recovery operations R12, R13, or RC3, or disposal operations D13 through D15 (recovery and disposal operations defined in § 262.81), a copy of each confirmation of recovery or disposal that the final recovery or disposal facility sent to it for at least three (3) years from the date that the final recovery or disposal facility completed processing the waste shipment; and

* * * * *

PART 264—STANDARDS FOR OWNERS AND OPERATORS OF HAZARDOUS WASTE TREATMENT, STORAGE, AND DISPOSAL FACILITIES

5. The authority citation for part 264 continues to read as follows:

Authority: 42 U.S.C. 6905, 6912(a), 6924, and 6925.

6. Revise § 264.12(a)(4)(ii) to read as follows:

§ 264.12 Required notices.

(a) * * *

(4) * * *

(ii) If the facility performed any of recovery operations R12, R13, or RC3, or disposal operations D13 through D15, promptly send copies of the confirmation of recovery or disposal that it receives from the final recovery or disposal facility within one year of shipment delivery to the final recovery or disposal facility that performed one of recovery operations R1 through R11, or RC1, or one of disposal operations D1 through D12, or DC1 to DC2, to the competent authority of the country of export that controls the shipment as an export of hazardous waste, and on or after the electronic import-export reporting compliance date, to EPA electronically using EPA's Waste Import Export Tracking System (WIETS), or its successor system. The recovery and disposal operations in this paragraph are defined in 40 CFR 262.81.

* * * * *

PART 265—INTERIM STATUS STANDARDS FOR OWNERS AND OPERATORS OF HAZARDOUS WASTE TREATMENT, STORAGE, AND DISPOSAL FACILITIES

7. The authority citation for part 265 continues to read as follows:

Authority: 42 U.S.C. 6905, 6906, 6912, 6922, 6923, 6924, 6925, 6935, 6936, and 6937.

8. Revise § 265.12(a)(4)(ii) to read as follows:

§ 265.12 Required notices.

(a) * * *

(4) * * *

(ii) If the facility performed any of recovery operations R12, R13, or RC3, or disposal operations D13 through D15, promptly send copies of the confirmation of recovery or disposal that it receives from the final recovery or disposal facility within one year of shipment delivery to the final recovery or disposal facility that performed one of recovery operations R1 through R11, or RC1, or one of disposal operations D1 through D12, or DC1 to DC2, to the competent authority of the country of export that controls the shipment as an export of hazardous waste, and on or after the electronic import-export reporting compliance date, to EPA electronically using EPA's Waste Import Export Tracking System (WIETS), or its successor system. The recovery and disposal operations in this paragraph are defined in 40 CFR 262.81.

[FR Doc. 2021-21417 Filed 9-30-21; 8:45 am]

BILLING CODE 6560-50-P